DEPARTMENT OF VETERANS AFFAIRS

Advisory Committee on Women Veterans; Notice of Meeting

The Department of Veterans Affairs (VA) gives notice under Public Law 92-463 (Federal Advisory Committee Act) that the Advisory Committee on Women Veterans will conduct a site visit on June 12-16, 2006, at the North Chicago VA Medical Center (VAMC), 3001 Green Bay Road, North Chicago, IL. Site visit briefings, updates, and tours will be held from 8:15 a.m. until 3:30 p.m. each day and will be open to the public.

The purpose of the Committee is to advise the Secretary of Veterans Affairs regarding the needs of women veterans with respect to health care, rehabilitation, compensation, outreach, and other programs and activities administered by VA designed to meet such needs. The Committee makes recommendations to the Secretary regarding such programs and activities.

On June 12, the agenda topics for this meeting will include briefings and updates from key leadership of the VAMC and Veterans Integrated Services Network (VISN) 12, as well as a tour of the surgical and emergency departments, acute medicine, Women's Wellness Clinic, and the Skilled Geriatric Rehabilitation Center. On June 13, the Committee will receive briefings and updates from VISN 12's Women Veterans Program Managers, VISN Seamless Transition Coordinator, and a VISN 12 official on mammography services. On June 14, the Committee will receive briefings and updates on resident training at the VAMC and Rosalind Franklin University of Health Sciences, the Chicago Regional Office operations to include women veterans activities, the Illinois State Department of Veterans Affairs Office, and the National Cemetery Administration. The Committee will also tour the Naval Hospital Great Lakes in Great Lakes, Illinois. On June 15, the Committee will receive briefings and updates on polytrauma services at the Hines VAMC, inpatient/outpatient mental health services for women, the Evanston Vet Center, domiciliary and substance abuse programs, and the acute psychiatry unit. On June 16, there will be an open forum and town hall meeting with the women veterans' community.

Any member of the public wishing to attend the meeting should contact Ms. Rebecca Schiller at the Department of Veterans Affairs, Center for Women Veteran (00W), 810 Vermont Avenue, NW., Washington, DC 20420. Ms. Schiller may be contacted either by phone at (202) 273-6193, fax at (202) 273-7092, or e-mail at 00W@mail.gov. Interested persons may attend, appear before, or file statements with the Committee. Written statements must be filed before the meeting or within 10 days after the meeting.

Dated: May 9, 2006.
By Direction of the Secretary.
E. Philip Riggin,
Committee Management Officer.

[FR Doc. 06-4528 Filed 5-12-06; 8:45 am]

BILLING CODE 8320-01-M